DEPARTMENT OF HEALTH AND HUMAN SERVICES

Centers for Disease Control and Prevention

[30Day-24-1430]

Agency Forms Undergoing Paperwork Reduction Act Review

In accordance with the Paperwork Reduction Act of 1995, the Centers for Disease Control and Prevention (CDC) has submitted the information collection request titled “B. multivorans Ice Machine Multistate Investigation” to the Office of Management and Budget (OMB) for review and approval. CDC previously published a “Proposed Data Collection Submitted for Public Comment and Recommendations” notice on April 12, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

B. Multivorans Ice Machine Multistate Investigation (OMB Control No. 0920-1430, Exp. 9/30/2024)—Extension—National Center for Emerging and Zoonotic Infectious Diseases (NCEZID), Centers for Disease Control and Prevention (CDC).

Background and Brief Description

CDC has been assisting state and local jurisdictions investigate clusters of Burkholderia multivorans infections among patients admitted across four hospitals in two non-contiguous states. The outbreak strain of the bacteria has been identified in environmental samples from ice machines. Molecular analysis has shown that the bacterial strain identified in ice machines is genetically highly similar to the patient isolates. Further investigation revealed that the same brand of ice machine and the same filters, descaling/cleaning, and sanitizing products were used by the four hospitals. Epidemiologic and laboratory evidence suggest the possibility of contaminated nonsterile ice and water from the same brand of ice machines as a common source of exposure.

Further investigation is needed to identify the scope of the outbreak and the source of the ice machine contamination. CDC has deemed it necessary to conduct a national call for cases requesting that public health authorities report cases and clusters of B. multivorans. A case report form was developed by CDC to assist jurisdictions in this effort. Jurisdictions will gather information using this case report form to assist in determining epidemiologic characteristics and risk factors of patients with B. multivorans as well as potential source(s) of B. multivorans, including ice machines and ice machine-related products (e.g., cleaning solutions). This data collection will enable CDC to better ascertain risk factors for transmission, potential source(s) of ice machine contamination, and develop targeted infection prevention and control recommendations to stop the transmission of the bacteria. Since this non-research public health response remains active, CDC requests approval for continued information collection activities for a period of three years. There are no proposed changes to the current information collection instrument. CDC requests OMB approval for an estimated 120 annualized burden hours.

Estimated Annualized Burden Hours
Type of respondents | Form name | Number of respondents | Number of responses per respondent | Average burden per response (in hours)
Health department healthcare-associated infections/antimicrobial resistance (HAI/AR) program staff/epidemiologists | B. multivorans outbreak investigation case report form | 40 | 1 | 3

Jeffrey M. Zirger,
Lead, Information Collection Review Office, Office of Public Health Ethics and Regulations, Office of Science, Centers for Disease Control and Prevention.

[FR Doc. 2024-20245 Filed 9-6-24; 8:45 am]

BILLING CODE 4163-18-P